OFFICE OF PERSONNEL MANAGEMENT

5 CFR Part 532

RIN 3206-AM70

Prevailing Rate Systems; Redefinition of the St. Louis, MO; Southern Missouri; Cleveland, OH; and Pittsburgh, PA, Appropriated Fund Federal Wage System Wage Areas

AGENCY: U.S. Office of Personnel Management.

ACTION: Final rule.

SUMMARY: The U.S. Office of Personnel Management is issuing a final rule to redefine the geographic boundaries of the St. Louis, MO; Southern Missouri; Cleveland, OH; and Pittsburgh, PA, appropriated fund Federal Wage System (FWS) wage areas. The final rule redefines Bollinger, Cape Girardeau, and Perry Counties, MO, from the Southern Missouri wage area to the St. Louis wage area and Mercer County, PA, from the Pittsburgh wage area to the Cleveland wage area. These changes are based on recent consensus recommendations of the Federal Prevailing Rate Advisory Committee to best match the counties proposed for redefinition to a nearby FWS survey area. This final rule makes two additional corrections. It renames the Champaign-Urbana, IL, wage area as the Central Illinois wage area and updates the name of the White Sands Proving Ground in the Albuquerque, NM, and El Paso, TX, wage areas to White Sands Missile Range.

DATES: This regulation is effective on May 13, 2013.

SUPPLEMENTARY INFORMATION: On November 15, 2012, the U.S. Office of Personnel Management (OPM) issued a proposed rule (77 FR 68073) to redefine Bollinger, Cape Girardeau, and Perry Counties, MO, from the Southern Missouri wage area to the St. Louis wage area and Mercer County, PA, from the Pittsburgh wage area to the Cleveland wage area. These changes are based on recent consensus recommendations of the Federal Prevailing Rate Advisory Committee to best match the above counties to a nearby FWS survey area.

This final rule makes two additional corrections. It renames the Champaign-Urbana, IL, wage area as the Central Illinois wage area and updates the name of the White Sands Proving Ground in the Albuquerque, NM, and El Paso, TX, wage areas to White Sands Missile Range. These corrections do not affect the pay of any FWS employees.

The proposed rule had a 30-day comment period during which OPM received no comments.

Regulatory Flexibility Act

I certify that these regulations will not have a significant economic impact on a substantial number of small entities because they will affect only Federal agencies and employees.

List of Subjects in 5 CFR Part 532

Administrative practice and procedure, Freedom of information, Government employees, Reporting and recordkeeping requirements, Wages.

U.S. Office of Personnel Management.
John Berry,
Director.

Accordingly, the U.S. Office of Personnel Management amends 5 CFR part 532 as follows:

PART 532—PREVAILING RATE SYSTEMS

1. The authority citation for part 532 continues to read as follows:

Authority: 5 U.S.C. 5343, 5346; § 532.707 also issued under 5 U.S.C. 552.

Appendix A to Subpart B of Part 532—[Amended]

2. In appendix A to subpart B of part 532, under the State of Illinois, revise “Champaign-Urbana” wage area to read “Central Illinois”.

3. In appendix C to subpart B of part 532, under the State of Illinois, revise “Champaign-Urbana” wage area to read “Central Illinois”, and revise the wage area listings for the St. Louis, MO; Southern Missouri; Albuquerque, NM; Cleveland, OH; Pittsburgh, PA, and El Paso, TX, wage areas to read as follows:

Appendix C to Subpart B of Part 532—Appropriated Fund Wage and Survey Areas

* * * * *
MISSOURI
* * * * *
St. Louis
Survey Area
Illinois:
Clinton
Madison
Monroe
St. Clair
Missouri: (city)
St. Louis
Missouri: (counties)
Franklin
Jefferson
St. Charles
St. Louis
Area of Application. Survey area plus:
Illinois:
Alexander
Bond
Calhoun
Clay
Effingham
Fayette
Franklin
Greene
Hamilton
Jackson
Jefferson
Jersey
Johnson
Macoupin
Marion
Massac
Montgomery
Morgan
Perry
Pike
Pope
Pulaski
Randolph
Saline
Scott
Union
Washington
Wayne
Williamson
Missouri:
Audrain
Bollinger
Boone
Callaway
Cape Girardeau
Clark
Cole
Crawford
Gasconade
Knox
Lewis
Lincoln
Marion
Moniteau
Monroe
Montgomery
Osage
Perry
Pike
Ralls
Randolph
St. Francois
Ste. Genevieve
Scotland
Shelby
Warren
Washington
Southern Missouri
Survey Area
Missouri:
Christian
Greene
Laclede
Phelps
Pulaski
Webster
Area of Application. Survey area plus:
Kansas:
Cherokee
Crawford
Missouri:
Barry
Barton
Benton
Butler
Camden
Carter
Cedar
Dade
Dallas
Dent
Douglas
Hickory
Howell
Iron
Jasper
Lawrence
Madison
Maries
Miller
Mississippi
Morgan
New Madrid
Newton
Oregon
Ozark
Polk
Reynolds
Ripley
St. Clair
Scott
Shannon
Stoddard
Stone
Taney
Texas
Vernon
Wayne
Wright
* * * * *
NEW MEXICO
Albuquerque
Survey Area
New Mexico:
Bernalillo
Sandoval
Area of Application. Survey area plus:
New Mexico:
Catron
Cibola
Colfax
Curry
De Baca
Guadalupe
Harding
Lincoln (Does not include White Sands Missile Range portion)
Los Alamos
Mora
Quay
Rio Arriba
Roosevelt
San Miguel
Santa Fe
Socorro (Does not include White Sands Missile Range portion)
Taos
Torrance
Union
Valencia
* * * * *
OHIO
* * * * *
Cleveland
Survey Area
Ohio:
Cuyahoga
Geauga
Lake
Medina
Area of Application. Survey area plus:
Ohio:
Ashland
Ashtabula
Carroll
Columbiana
Erie
Huron
Lorain
Mahoning
Ottawa
Portage
Sandusky
Seneca
Stark
Summit
Trumbull
Wayne
Pennsylvania:
Mercer
* * * * *
PENNSYLVANIA
* * * * *
Pittsburgh
Survey Area
Ohio:Pennsylvania:
Allegheny
Beaver
Butler
Washington
Westmoreland
Area of Application. Survey area plus:
Ohio:
Belmont
Harrison
Jefferson
Tuscarawas
Pennsylvania:
Armstrong
Bedford
Blair
Cambria
Cameron
Centre
Clarion
Clearfield
Clinton
Crawford
Elk (Does not include the Allegheny National Forest portion)
Erie
Fayette
Forest (Does not include the Allegheny National Forest portion)
Greene
Huntingdon
Indiana
Jefferson
Lawrence
Potter
Somerset
Venango
West Virginia:
Brooke
Hancock
Marshall
Ohio
* * * * *
TEXAS
* * * * *
El Paso
Survey Area
New Mexico:
Dona Ana
Otero
Texas:
El Paso
Area of Application. Survey area plus:
New Mexico:
Chaves
Eddy
Grant
Hidalgo
Lincoln (Only White Sands Missile Range portion)
Luna
Sierra
Socorro (Only White Sands Missile Range portion)
Texas:
Culberson
Hudspeth
* * * * *

[FR Doc. 2013-08518 Filed 4-10-13; 8:45 am]

BILLING CODE 6325-39-P